DEPARTMENT OF COMMERCE

Foreign-Trade Zones Board

[B-37-2014]

Foreign-Trade Zone (FTZ) 183—Austin, Texas, Notification of Proposed Production Activity, Samsung Austin Semiconductor, L.L.C., Subzone 183B (Semiconductors), Austin, Texas

Samsung Austin Semiconductor, L.L.C. (Samsung) submitted a notification of proposed production activity to the FTZ Board for its facility in Austin, Texas within Subzone 183B. The notification conforming to the requirements of the regulations of the FTZ Board (15 CFR 400.22) was received on April 28, 2014.

Samsung already has authority to produce semiconductor memory devices for export within Subzone 183B. The current request would add foreign status materials/components to the scope of authority. Pursuant to 15 CFR 400.14(b), additional FTZ authority would be limited to the specific foreign-status materials/components and specific finished products described in the submitted notification (as described below) and subsequently authorized by the FTZ Board.

Export production under FTZ procedures could exempt Samsung from customs duty payments on the foreign status materials/components noted below and in the existing scope of authority. Customs duties also could possibly be deferred or reduced on foreign status production equipment.

The materials/components sourced from abroad include: copper sulfate and hexachlorosilane (duty rate ranges from 1.4 to 3.7%).

Public comment is invited from interested parties. Submissions shall be addressed to the Board's Executive Secretary at the address below. The closing period for their receipt is June 23, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: May 8, 2014.
Andrew McGilvray,
Executive Secretary.

[FR Doc. 2014-11118 Filed 5-13-14; 8:45 am]

BILLING CODE 3510-DS-P